DEPARTMENT OF THE INTERIOR

Bureau of Indian Affairs

25 CFR Part 41

[145A2100DD.AADD001000.A0E501010.999900]

RIN 1076-AF08

Grants to Tribally Controlled Colleges and Universities, Diné College, and Tribally Controlled Postsecondary Career and Technical Institutions

AGENCY: Bureau of Indian Affairs, Interior.

ACTION: Notice of tribal consultation sessions.

SUMMARY: The Bureau of Indian Education provides financial and technical assistance to tribally controlled colleges and universities and Diné College. In collaboration with the American Indian Higher Education Consortium, we have prepared a discussion draft that updates the policies and procedures for administration and oversight of these assistance programs and revises regulatory language to conform to statutory amendments. This notice announces tribal consultation sessions and a comment period on the preliminary discussion draft.

DATES: Comments must be received by November 15, 2014. See the SUPPLEMENTARY INFORMATION section of this notice for dates of the tribal consultation sessions.

ADDRESSES: See the SUPPLEMENTARY INFORMATION section of this notice for locations of the tribal consultation sessions and the Web site where the preliminary discussion draft is available. You may submit comments by either of the following methods:

—Federal Rulemaking Portal: http://www.regulations.gov. This rule is listed under the agency name “Bureau of Indian Affairs” and Docket ID “BIA-2011-0002.”

—Mail or Hand-Delivery: Ms. Juanita Mendoza, Program Analyst, Bureau of Indian Education, U.S. Department of the Interior, 1951 Constitution Ave. NW., MS 312, Washington, DC 20240. Include “1076-AF08” on the cover of the submission.

FOR FURTHER INFORMATION CONTACT: Ms. Juanita Mendoza, Program Analyst, Bureau of Indian Education, U.S. Department of the Interior, 1951 Constitution Ave. NW., MS 312, Washington, DC 20240; or email to juanita.mendoza@bie.edu.

SUPPLEMENTARY INFORMATION: The BIE supports and encourages the establishment, operation, and improvement of tribally controlled colleges and universities (TCUs) to ensure continued and expanded educational opportunities for Indian students. The TCUs are both integral and essential to their communities, creating environments that foster American Indian culture, languages, and traditions. The TCUs serve a variety of people from young adults to senior citizens. The TCUs offer 358 total programs, including apprenticeships, diplomas, certificates, and degrees. These programs include 181 associate degree programs at 23 TCUs, 40 bachelor's degree programs at 11 TCUs, and 5 master's degree programs at 2 TCUs.

The BIE is revising the regulations at 25 CFR Part 41 and has prepared a preliminary discussion draft. Subpart B of the preliminary discussion draft concerns financial and technical assistance to tribal colleges and universities funded under the Tribally Controlled Colleges and Universities Assistance Act of 1978, as amended (25 U.S.C. 1801 et seq.). Subpart B does not concern financial assistance to Diné College or to tribally controlled postsecondary career and technical institutions. Subpart C of the preliminary discussion draft applies to financial assistance to Diné College under the Navajo Nation Higher Education Act of 2008. Subpart A includes general provisions and applies to both subparts B and C.

This notice announces the availability of the preliminary discussion draft of potential revisions for public view at www.bie.edu/consultation/index.htm. Comments on the preliminary discussion draft are due by the date indicated in the DATES section of this notice. BIE will host five meetings to obtain input on the preliminary discussion draft.

The meetings to obtain input will be held on the dates and at the locations shown below. All times are local.

Date | Time | Location | Venue
October 16, 2014 | 5:00 p.m.-8:00 p.m | Anchorage, Alaska | NIEA Conference, Anchorage Convention Center, Room TBD, Anchorage, AK 99501.
October 20, 2014 | 12 p.m.-3 p.m | Webinar | Register at web link: https://dcma100.webex.com/dcma100/k2/j.php?MTID=tf8923c96f8b2d86dc23136f450688e77.
October 22, 2014 | 12 p.m.-3 p.m | Gallup, NM | Navajo Regional Office, Bureau of Indian Affairs, Conference Room 162, 301 West Hill Street, Gallup, NM 87301.
October 27, 2014 | 9 a.m.-12 p.m | Billings, MT | Department of Interior Building, 2021 4th Avenue North, 4th Floor, Plenty Coup Room, Billings, MT 59101.
October 29, 2014 | 9 a.m.-12 p.m | Bloomington, MN | Bureau of Indian Education, Associate Deputy Director's Office, 2001 Killebrew Dr., Ste. 122, Bloomington, MN 55425.

Following the first round of consultation, we will review the comments received and then prepare a proposed rule for publication in the Federal Register. This will open a second round of consultation and a formal comment period to allow for further refining of the proposed rule before we publish a final rule.

Dated: September 10, 2014.
Kevin K. Washburn,
Assistant Secretary—Indian Affairs.

[FR Doc. 2014-21966 Filed 9-12-14; 8:45 am]

BILLING CODE 4310-W7-P